COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds services to the Procurement List that will be provided by nonprofit agencies employing persons who are blind or have other severe disabilities.

DATES: Effective Date: 1/23/2012.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or email CMTEFedReg@AbilityOne.gov.

SUPPLEMENTARY INFORMATION:

Additions

On 10/14/2011 (76 FR 63905-63906) and 10/28/2011 (76 FR 66913-66914), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. chapter 85 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. chapter 85) in connection with the services proposed for addition to the Procurement List.

End of Certification

Accordingly, the following services are added to the Procurement List:

Services

Service Type/Location: Grounds Maintenance, United States Southern Command, 9301 NW 33rd Street, Doral, FL.

NPA: Goodwill Industries of South Florida, Inc., Miami, FL.

Contracting Activity: DEPT OF THE ARMY, W6QL ECC MIAMI DIV, MIAMI, FL.

Service Type/Location: Industrial Laundry Service, Bureau of Engraving and Printing, (Offsite: 880 Mustang Dr., Grapevine, TX), 9000 Blue Mound Road, Fort Worth, TX.

NPA: Goodwill Industrial Services of Fort Worth, Inc., Fort Worth, TX.

Contracting Activity: DEPT OF TREASURY, BUREAU OF ENGRAVING AND PRINTING, WASHINGTON, DC.

Patricia Briscoe,
Deputy Director, Business Operations, Pricing and Information Management.

[FR Doc. 2011-32930 Filed 12-22-11; 8:45 am]

BILLING CODE 6353-01-P